DEPARTMENT OF COMMERCE

National Oceanic and Atmospheric Administration

50 CFR Part 679

[Docket No. 070213033-7033-01]

RIN 0648-XD68

Fisheries of the Exclusive Economic Zone Off Alaska; Atka Mackerel in the Bering Sea and Aleutian Islands Management Area

AGENCY: National Marine Fisheries Service (NMFS), National Oceanic and Atmospheric Administration (NOAA), Commerce.

ACTION: Temporary rule; closures and openings.

SUMMARY: NMFS is announcing the opening and closing dates of the Atka mackerel directed fishery within the harvest limit area (HLA) in Statistical Area 542 for the vessel participating in the Amendment 80 cooperative. This action is necessary to fully use the 2008 A season HLA limit established for the vessel participating in the Amendment 80 cooperative.

DATES: Effective 1200 hrs, A.l.t., February 13, 2008, until 1200 hrs, A.l.t., February 27, 2008.

Written comments must be received by February 28, 2008.

ADDRESSES: Send comments to Sue Salveson, Assistant Regional Administrator, Sustainable Fisheries Division, Alaska Region, NMFS, Attn: Ellen Sebastian. You may submit comments, identified by 0648-XD68, by any one of the following methods:

• Electronic Submissions: Submit all electronic public comments via the Federal eRulemaking Portal website at http://www.regulations.gov;

• Mail: P.O. Box 21668, Juneau, AK 99802;

• Fax: (907) 586-7557; or

• Hand delivery to the Federal Building: 709 West 9th Street, Room 420A, Juneau, AK.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Jennifer Hogan, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

In accordance with the 2007 and 2008 final harvest specifications for groundfish in the BSAI (72 FR 9451, March 2, 2007) and revision (72 FR 71802, December 19, 2007), and § 679.20(a)(8)(ii)(C)(1), the HLA limit of the A season allowance of the 2008 Atka mackerel TACs is 2,294 mt in the Central Aleutian District (area 542) for the Amendment 80 cooperative. The HLA directed fishery for the vessel participating in the Amendment 80 cooperative were previously opened and closed (73 FR 4494, January 25, 2008) based on the HLA apportionments of the 2007 and 2008 final harvest specifications for groundfish in the BSAI (72 FR 9451, March 2, 2007) and revision (72 FR 71802, December 19, 2007).

NMFS has determined that approximately 1,139 mt remain in the Atka mackerel A season HLA limit in area 542 for the vessel participating in the Amendment 80 cooperative. Therefore, in accordance with § 679.25(a)(1)(i), (a)(2)(i)(C), and (a)(2)(iii)(D), and to fully utilize the 2008 A season HLA limit in area 542 for the vessel participating in the Amendment 80 cooperative, NMFS is reopening the directed fishery effective 1200 hrs, A.l.t., February 13, 2008.

In accordance with § 679.20(a)(8)(iii)(E), the Regional Administrator has established the closure date of the Atka mackerel directed fishery in the HLA for area 542 based on the amount of the harvest limit and the estimated fishing capacity of the vessel participating in the Amendment 80 cooperative. Consequently, NMFS is prohibiting directed fishing for Atka mackerel in the HLA of area 542 for the vessel participating in the Amendment 80 cooperative effective 1200 hrs, A.l.t., February 27, 2008.

After the effective dates of these closures, the maximum retainable amounts at § 679.20(e) and (f) apply at any time during a trip.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the opening and closing of the fishery for the HLA limit established in area 542 for the vessel participating in the Amendment 80 cooperative. NMFS was unable to publish a notice providing time for public comment because the most recent, relevant data only became available as of February 8, 2008.

The AA also finds good cause to waive the 30-day delay in the effective date of this action under 5 U.S.C. 553(d)(3). This finding is based upon the reasons provided above for waiver of prior notice and opportunity for public comment.

Without this inseason adjustment, NMFS could not allow the Atka mackerel fishery in the HLA for area 542 to be harvested in an expedient manner and in accordance with the regulatory schedule. Under § 679.25(c)(2), interested persons are invited to submit written comments on this action to the above address until February 28, 2008.

This action is required by § 679.20 and § 679.25 and is exempt from review under Executive Order 12866.

Authority: 16 U.S.C. 1801 et seq.

Dated: February 12, 2008.
Emily H. Menashes
Acting Director, Office of Sustainable Fisheries, National Marine Fisheries Service.

[FR Doc. 08-741 Filed 2-13-08; 12:16 pm]

BILLING CODE 3510-22-S